DEPARTMENT OF AGRICULTURE

Submission for OMB Review; Comment Request

July 21, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OBM control number and the agency informs potential persons who are to respond to the collection of information that such persons are not required to respond to the collection of information unless it displays a currently valid OMB control number.

Food and Nutrition Service

Title: National School Lunch Program.

OMB Control Number: 0584-0006.

Summary of Collection: Section 111 of the Child Nutrition and WIC Reauthorization Act of 2004 (Pub. L. 108-265; June 30, 2004) amended section 9(h) of the Richard B. Russell School Lunch Act (NSLA) (42 U.S.C. 1758(h)) by increasing the number of mandatory food safety inspections for schools participating in the National School Lunch Program and the School Breakfast Program from one to two per year and by requiring schools to post the most recent inspection report in a visible location and to release a copy of the report to the public upon request.

Need and Use of the Information: The information will be collected to ensure that State agencies annually monitor the number of food safety inspections obtained by schools and to submit the results to the Food and Nutrition Service for each fiscal year 2006 through 2009.

Description of Respondents: State, Local, or Tribal Government, Individuals or household, Business or other for-profit, Not-for-profit institutions, Federal Government.

Number of Respondents: 121,165.

Frequency of Responses: Recordkeeping; Reporting: On occasion; Quarterly; Monthly; Annually.

Total Burden Hours: 9,480,695.

Food and Nutrition Service

Title: 7 CFR Part 226 Child and Adult Care Food Program.

OMB Control Number: 0584-0055.

Summary of Collection: Section 17 of the National School Lunch Act, as amended (42 U.S.C. 1766) authorizes the Secretary of Agriculture to provide each reimbursement and commodity assistance, on a per meal basis, for food service to children in nonresidential child care centers and family day care home, and to eligible adults in nonresidential adult day care centers. Section 119 of the Child Nutrition and WIC Reauthorization Act of 2004, Public Law 108-265 amended the Richard B. Russell National School Lunch Act to increase the duration of tiering determinations from three years to five years for family or group day care homes whose tiering status is derived from school data. The Food and Nutrition Service (FNS) has established application, monitoring, recordkeeping, and reporting requirements to manage the Program effectively, and ensure that the legislative intent of this mandate is responsibly implemented.

Need and Use of the Information: FNS and State agencies administering the Program will use the collected information to determine eligibility of institutions to participate in the CACFP, ensure acceptance of responsibility in managing an effective food service, implement systems for appropriating Program funds, and ensure Compliance with all statutory and regulatory requirements.

Description of Respondents: State, Local or Tribal Government; Individuals or households; Not-for-profit institutions.

Number of Respondents: 4,480,796.

Frequency of Responses: Recordkeeping; Reporting: On occasion; Biennially; Semi-annually; Monthly and Annually.

Total Burden Hours: 5,779,223.

Ruth Brown,
Departmental Information Collection Clearance Officer.

[FR Doc. 05-14766 Filed 7-26-05; 8:45 am]

BILLING CODE 3410-30-M